DEPARTMENT OF DEFENSE

Office of the Secretary

[Transmittal No. 19-52]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-52 with attached Policy Justification and Sensitivity of Technology.

Dated: November 27, 2019.
Aaron T. Siegel,
Alternate OSD Federal Register Liaison Officer, Department of Defense.

BILLING CODE 5001-06-P

BILLING CODE 5001-06-C

Transmittal No. 19-52

Notice of Proposed Issuance of Letter of Offer Pursuant to Section 36(b)(1) of the Arms Export Control Act, as amended

(i) Prospective Purchaser: Government of Kuwait

(ii) Total Estimated Value:

Major Defense Equipment * | $103 million
Other | 178 million
Total | 281 million

(iii) Description and Quantity or Quantities of Articles or Services under Consideration for Purchase: Purchase of new M88A2s and refurbishment/overhaul of Kuwait's existing inventory of fourteen (14) M88A2 and eight (8) M88A1 Recovery Vehicles.

Major Defense Equipment (MDE):

Nineteen (19) M88A2 Heavy Equipment Recovery Combat Utility Lifting Extraction System (HERCULES) Recovery Vehicles

Nineteen (19) .50 Caliber Machine Guns

Non-MDE:

Refurbishment/overhaul of existing fleet of M88Al/A2 recovery vehicles; M239 Smoke Grenade Launchers; AN/PVS-7D Night Vision Goggles; Driver Vision Enhancer DVE-CV (platform-mounted Night Vision Device) for vehicles; Vehicle Intercom Set (VIC-3); Commander's Cupola gun shield assembly for vehicle crew chief; Remote Thermal Sights/kits (vehicle-mounted sights); SINCGARS AN-VRC92E Export Radio System and support; logistics support fielding packages; special tools and test equipment; spare and maintenance support parts for vehicles and machine guns; transportation services; Repair and Return services for vehicle components; de-processing team; contractor System Technical Support (STS) and Field Service Representatives (FSRs); training; and U.S. Government and contractor engineering, technical and logistics support services; and other related elements of logistical and program support.

(iv) Military Department: U.S Army (KU-B-UXC and KU-B-UXD).

(v) Prior Related Cases, if any: KU-B-UXA; KU-B-JAT; KU-B-ULX; KU-B-UKN; KU-B-UMK; KU-B-UKO; KU-B-UAI.

(vi) Sales Commission, Fee, etc., Paid, Offered, or Agreed to be Paid: None.

(vii) Sensitivity of Technology Contained in the Defense Article or Defense Services Proposed to be Sold: See Attached Annex.

(viii) Date Report Delivered to Congress: October 10, 2019.

* As defined in Section 47(6) of the Arms Export Control Act.

POLICY JUSTIFICATION

Kuwait—M88A2 Recovery Vehicles and Related Equipment and Support

The Government of Kuwait has requested a possible sale of nineteen (19) M88A2 Heavy Equipment Recovery Combat Utility Lifting Extraction System (HERCULES) recovery vehicles and nineteen (19) .50 caliber machine guns. Also included is the refurbishment/overhaul of existing fleet of M88Al/A2 recovery vehicles; M239 Smoke Grenade Launchers; AN/PVS-7D Night Vision Goggles; Driver Vision Enhancer DVE-CV (platform-mounted Night Vision Device) for vehicles; Vehicle Intercom Set (VIC-3); Commander's Cupola gun shield assembly for vehicle crew chief; Remote Thermal Sights/kits (vehicle-mounted sights); SINCGARS AN-VRC92E Export Radio System and support; logistics support fielding packages; special tools and test equipment; spare and maintenance support parts for vehicles and machine guns; transportation services; Repair and Return services for vehicle components; de-processing team; contractor System Technical Support (STS) and Field Service Representatives (FSRs); training; and U.S. Government and contractor engineering, technical and logistics support services; and other related elements of logistical and program support. The total estimated program cost is $281 million.

The proposed sale will support the foreign policy and national security of the United States by helping to improve the security of a Major Non-NATO Ally that is an important force for political stability and economic progress in the Middle East.

The M88A2 HERCULES is a full tracked armored vehicle used to perform battlefield rescue and recovery missions. The M88A2 is essential to the long-term sustainability of Kuwait's new M1A2 tank fleet for national defense. Kuwait will have no difficulty absorbing this additional equipment and services.

The proposed sale of this equipment and support will not alter the basic military balance in the region.

The principal contractors involved in this program are the BAE Systems—York, PA; US Ordnance—McCarran, NV; DRS Technologies—Arlington, VA; Harris Corp.—Tysons Corner, VA; Northrup Grumman—West Falls Church, VA; and Raytheon—McKinney, TX. There are no known offset agreements proposed in connection with this potential sale.

Implementation of this proposed sale will require five to seven U.S. Government or contractor representatives to travel to Kuwait for a period of 12 months for vehicle de-processing and training. If refurbishment/overhaul takes place in Kuwait, the estimated number of U.S. Government or contractors required is eight over an estimated 18-month period.

There will be no adverse impact on U.S. defense readiness as a result of this proposed sale.

Transmittal No. 19-52

Notice of Proposed Issuance of Letter of Offer Pursuant to Section 36(b)(1) of the Arms Export Control Act

Annex

Item No. vii

(vii) Sensitivity of Technology:

1. The M88Al/A2 Heavy Equipment Recovery Combat Utility Lift Evacuation System (HERCULES) Armored Recovery Vehicle (ARV) is a full-tracked armored vehicle used to perform battlefield recovery missions including towing, hoisting, and winching. It is fully capable of recovery support for Abrams series tanks and future heavy combat vehicles. The highest level of classified material required to be released for training, operation and maintenance is UNCLASSIFIED. Components considered to contain sensitive technology in the proposed case are as follows:

a. Driver's Vision Enhancer (DVE-CV-M88) platform-mounted night vision device (NVD) for vehicles—The DVE-CV-M88 is an un-cooled thermal imaging system developed for use while driving Combat Vehicles and Tactical Wheeled Vehicles. It allows for tactical vehicle movement in all environmental conditions and provides enhanced driving capability during limited visibility conditions. The highest level of classification is UNCLASSIFIED for hardware and software.

b. Remote Thermal Sight (vehicle-mounted)—The Remote Thermal Sight is a platform mounted and is not a standalone device. The highest level of classification associated with this system is UNCLASSIFIED.

c. AN/PVS-7D Night Vision Goggles (NVG)—AN/PVS-7D NVG will be included for vehicle crews. The highest level of classification associated with the NVG is UNCLASSIFIED.

d. AN/VRC-92E Export Version Single Channel Ground and Airborne radio System (SINCGARS) with GPS—SINCGARS provides both voice and data handling capability in support of command and control operations. It facilitates transmission of voice and/or data information, which allows for conducting missions across the operational continuum. The SINCGARS radio system to be provided for the M88A2 recovery vehicles is the export variant. The highest level of classification associated with the SINCGARS radio system is UNCLASSIFIED.

2. A determination has been made that Kuwait can provide substantially the same degree of protection of this technology as the U.S. Government. This proposed sale is necessary in furtherance of U.S. foreign policy and national security objectives outlined in the Policy Justification.

3. All defense articles and services listed in this transmittal are authorized for release and export to the Government of Kuwait.

[FR Doc. 2019-26165 Filed 12-3-19; 8:45 am]

BILLING CODE 5001-06-P